DEPARTMENT OF HOMELAND SECURITY

Coast Guard

33 CFR Part 117

[Docket No. USCG-2016-0406]

Drawbridge Operation Regulation; Lake Champlain, North Hero Island, VT

AGENCY: Coast Guard, DHS.

ACTION: Notice of deviation from drawbridge regulation.

SUMMARY: The Coast Guard has issued a temporary deviation from the operating schedule that governs the US2 Bridge across Lake Champlain (The Gut), mile 91.8, between North Hero and South Hero Island, Vermont. This deviation is necessary to allow the bridge owner to perform mechanical and electrical repairs at the bridge.

DATES: This deviation is effective without actual notice from May 18, 2016 to 8 a.m. on June 15, 2016. For the purposes of enforcement, actual notice will be used from 8 a.m. on May 15, 2016, until May 18, 2016.

ADDRESSES: The docket for this deviation, USCG-2016-0406, is available at http://www.regulations.gov. Type the docket number in the “SEARCH” box and click “SEARCH”. Click on Open Docket Folder on the line associated with this deviation.

FOR FURTHER INFORMATION CONTACT: If you have questions on this temporary deviation, call or email Jim Rousseau; Project Officer, First Coast Guard District, telephone (617) 223-8619, email james.l.rousseau2@uscg.mil.

SUPPLEMENTARY INFORMATION: The US2 Bridge across Lake Champlain, at North Hero Island, Vermont, has a vertical clearance in the closed position of 18 feet at mean high water. The existing bridge operating regulations are found at 33 CFR 117.993(b).

The subject waterway is typically transited by seasonal, recreational vessels of various sizes. Several marina facilities are in the area of the bridge with local vessels requesting bridge openings several times a week.

The bridge owner, Vermont Agency of Transportation, requested a temporary deviation from the normal operating schedule to facilitate mechanical and electrical repairs at the bridge. In response to the request, the Coast Guard's First District has approved a deviation from 8 a.m. on May 15, 2016 until 8 a.m. June 15, 2016.

During the time of this temporary deviation, the US2 Bridge shall open on signal on the hour, but it will not open on the half hour. Also during the time of this temporary deviation, the US2 Bridge will be open by use of an auxiliary drive system not designed for high-speed openings, which means the bridge will open more slowly than it does under normal operations.

Vessels that are able to pass under the bridge in the closed position may do so at anytime. The bridge will be able to open for emergencies, and there is an alternate route for vessels to pass to the north under the Alburg Passage US2 fixed bridge, which has a vertical clearance of 26 feet at mean high water.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: May 13, 2016,
C.J. Bisignano,
Supervisory Bridge Management Specialist, First Coast Guard District.

[FR Doc. 2016-11713 Filed 5-17-16; 8:45 am]

BILLING CODE 9110-04-P